DEPARTMENT OF HEALTH AND HUMAN SERVICES

Centers for Disease Control and Prevention

Maternal, Infant, and Reproductive Health: National and State Coalition Capacity Building

Announcement Type: New.

Funding Opportunity Number: RFA AA004.

Catalog of Federal Domestic Assistance Number: 93.946, Safe Motherhood/Infant Health.

Key Dates: Letter of Intent Deadline (LOI): April 22, 2005.

Application Deadline: May 23, 2005.

I. Funding Opportunity Description

Authority: This program is authorized under Section 317(k)(2) [42 U.S.C. 247b(k)(2)] of the Public Health Service Act, as amended.

Purpose: The purpose of this program is to improve reproductive health through the application of science-based approaches by supporting State and major urban public health agencies, national organizations and State coalitions to improve reproductive and infant health through the application of science-based approaches. Reproductive and infant health needs to be addressed include the prevention of adverse maternal and infant health outcomes, unintended and teen pregnancy, HIV and STDs.

This cooperative agreement addresses the “Healthy People 2010” focus areas of Maternal, Infant and Child Health, Family Planning, Sexually Transmitted Diseases (STDs), Human Immunodeficiency Virus (HIV), Substance Abuse, Injury and Violence Prevention, Community-Based Programs, Physical Activity and Fitness, Nutrition and Overweight, Tobacco, and Mental Health and Mental Disorders.

Measurable outcomes of the program will be in alignment with one or more of the following performance goals for the National Center for Chronic Disease Prevention and Health Promotion (NCCDPHP):

• Improve the health and well being of women, infants, children, and families

• Promote health and reduce chronic disease associated with diet and weight.

• Improve health, fitness, and quality of life through daily physical activity.

• Promote responsible sexual behaviors, strengthen community capacity, and increase access to quality services to prevent STDs and their complications.

• Reduce illness, disability, and death related to tobacco use and exposure to secondhand smoke.

• Prevent abuse and neglect among pregnant women and infants.

• Prevent HIV infection and its related illness and death.

• Improve the health and well being of minority women before, during, and after pregnancy.

• Reduce racial and ethnic disparities in maternal health outcomes.

• Reduce the number of minority women who have adverse reproductive outcomes.

• Promote health, fitness, and quality of life through daily physical activity.

• Reduce maternal mortality among minority women.

• Increase the number of minority women who have access to and use preconception counseling and related services.

• Increase the number of minority women who have access to and use prenatal care services.

• Increase the proportion of adolescents who abstain from sexual intercourse or use condoms if currently sexually active.

• Reduce pregnancies among adolescent females.

• Reduce the number of cases of HIV infection among adolescents.

• Reduce the number of STD cases among adolescents.

This announcement is only for non-research activities supported by CDC/ATSDR. If research is proposed, the application will not be reviewed. For the definition of research, please see the CDC Web site at the following Internet address: http://www.cdc.gov/od/ads/opspoll1.htm.

Activities: Awardees activities for this program are as follows: Parts A and B will provide support for organizations to work cooperatively with health departments and other Maternal and Child Health Programs (MCH) to promote the Safe Motherhood and Infant Health approach, enhance skill development for MCH-related public health programs, strengthen systems of services for women across their lifespan, including adolescents, assess and prevent birth defects and developmental disabilities, and establish programs to prevent behaviors that place young people, teens and those up to age 24, at risk for HIV infection, other STDs, unintended pregnancy, and other important health problems. Part A of this program targets activities for State public health agencies nationwide and Part B of this program targets activities for public health agencies in major urban areas nationwide. Recipient activities for Part A and B are:

Develop work plans that include target organizations, collaborative activities, evaluation plan and a logic model. The logic model should contain program activities, short-term, intermediate, long-term and impact outcomes (see Appendix B on the CDC Web site, Internet address: http://www.cdc.gov. Click on “Funding” then “Grants and Cooperative Agreements).”

• Develop training initiatives to promote the capability of health departments to conduct epidemiology and surveillance and to use relevant scientific information and health data to improve maternal and child health policies and programs.

• Develop educational initiatives to promote the awareness and knowledge of the public health workforce to address current reproductive and infant health issues.

• Develop translation initiatives to translate and to promote translation of effective public health policies and practices in reproductive and infant health based on a systematic and scientific review of the published literature and consensus of national experts.

• Develop initiatives to assist federal Healthy Start communities in assessing their fetal and infant mortality and developing community action plans to address identified needs.

• Develop initiatives to assess reproductive and infant health needs and to assess the capabilities of public health agencies to address those needs. Also, initiatives to evaluate related programs.

• Develop partnership initiatives with other key national groups and organizations to promote reproductive and infant health and conduct these activities through communication, coordination and collaboration.

• Initiatives can include conferences, workshops, newsletters, publications, expert panels, year-long learning training institutes, web-casts, and distance-based offerings.

Part C will provide support for national organizations to promote safe motherhood for minority women before, during, and after pregnancy; eliminate racial and ethnic disparities in maternal health outcomes; reduce adverse reproductive outcomes; build relationships with State health departments or State coalitions and local affiliates; and strengthen systems of services for minority women across their lifespan. Areas of interest include preconception counseling and related services, prenatal care services, maternal morbidity and mortality surveillance and prevention, substance abuse prevention, violence prevention, promotion of adequate birth intervals, pregnancy-related depression, and postpartum morbidity. Recipient activities for Part C are:

• Educational initiatives (e.g., health promotion campaigns) to promote the awareness and knowledge of reproductive and health issues among minority women.

• Promote the use of services such as smoking cessation programs, alcohol and substance abuse treatment programs, and domestic violence intervention programs that provide services to pregnant minority women.

• Build capacity within local affiliates to select, implement, and evaluate science-based approaches.

• Disseminate science-based practices through a variety of channels such as newsletters, workshops, conferences, and publications.

• Collect and use standardized data to identify all high-risk minority women and monitor the effectiveness of health interventions serving these populations.

• Develop partnerships and collaborations with State health departments or State coalitions to provide educational and technical support for health promotion programs.

• Promote policy, program, and research efforts for the improvement of health status of minority women.

• Support providers in the delivery of quality reproductive health care to minority women.

• Increase access to and utilization of reproductive health care.

• Enhance or expand safe motherhood programs that target high-risk minority women.

Part D will provide support to assist national teen pregnancy prevention organizations to increase the capacity of State coalitions and local organizations to use science-based principles to prevent teen pregnancy and promote adolescent reproductive health, including abstinence, and STD and HIV prevention (see Appendix A found on the CDC Web site, Internet address: http://www.cdc.gov. Click on “Funding” then “Grants and Cooperative Agreements.”). This will be accomplished through training, technical assistance, capacity building, and program evaluation. Recipient activities for Part D National Organizations are: Develop a work plan that includes target organizations, collaborative activities, evaluation plan, and a logic model. The logic model should contain program activities, short-term, intermediate, long-term, and impact outcomes (see Appendix B found on the CDC Web site, Internet address: http://www.cdc.gov. Click on “Funding” then “Grants and Cooperative Agreements.”).

Provide training and technical assistance to State and local organizations, especially the State coalitions funded in Part E and regional training centers funded through the cooperative agreement “Integrating HIV and Other Prevention Services into Reproductive Health and Community Settings”, Program Announcement 04073, to increase their capacity to promote the use of science-based approaches (see Appendix C found on the CDC Web site, Internet address: http://www.cdc.gov. Click on “Funding” then “Grants and Cooperative Agreements.”).

• Disseminate science-based practices and findings through meetings, publications, websites, conference calls, listservs, technical assistance, and other innovative means.

• Develop and implement an evaluation plan that measures the applicant's impact of training and technical assistance on State coalitions and organizations.

• Collaborate with CDC on program development, implementation, evaluation, and dissemination of the findings.

• Share lessons learned with CDC and other grantees.

Part E will provide support to assist State teen pregnancy prevention coalitions to increase the capacity of local organizations to use science-based principles to prevent teen pregnancy and promote adolescent reproductive health, including abstinence, and STD and HIV prevention (see Appendix A found on the CDC Web site, Internet address: http://www.cdc.gov. Click on “Funding” then “Grants and Cooperative Agreements.”). This will be accomplished through training, technical assistance, capacity building, and program evaluation. Recipient activities for Part E State Coalitions are as follows:

Develop a strategy and work plan to increase local organizations' ability to adopt or modify current practices to include science-based principles to prevent teen pregnancy. The work plan should include target organizations, collaborative activities, evaluation plan, and logic model. The logic model should contain program activities, short-term, intermediate, long-term and impact outcomes, (see Appendix B found on the CDC Web site, Internet address: http://www.cdc.gov. Click on “Funding” then “Grants and Cooperative Agreements.”).

• Provide training and technical assistance to State and local coalitions, State health departments, schools, health clinics, youth serving community and faith-based organizations, or other organizations to increase the organization's capacity to:

—Select science-based interventions or modify current practices to include science-based principles to prevent teen pregnancy, HIV and STDs, and promote adolescent reproductive health that meet the identified needs of the community.

—Design and implement an evaluation plan that contributes to program improvement and accountability.

—Translate and broadly disseminate evaluation findings and training materials for publication and use through a variety of mechanisms such as scientific journals, media, professional meetings, the internet, training manuals, curricula, toolkits, or other innovative means.

• Develop and implement an evaluation plan that measures the impact of the applicant's training and technical assistance on local organizations.

• Share lessons learned with CDC and other grantees.

• Collaborate with CDC, the organizations funded through this cooperative agreement and regional training centers funded through the existing “Integrating HIV and Other Prevention Services into Reproductive Health and Community Settings” Program Announcement 04073, cooperative agreement (see Appendix C found on the CDC Web site, Internet address: http://www.cdc.gov. Click on “Funding” then “Grants and Cooperative Agreements.”)

• Collaborate with CDC on program development, implementation, and evaluation, and disseminate lessons learned from those activities.

In a cooperative agreement, CDC staff is substantially involved in the program activities, above and beyond routine grant monitoring.

CDC Activities for this program are as follows:

Parts A and B are as follows:

• Assist with efforts to identify, prevent, and address reproductive health issues in State and local health departments by providing technical assistance and guidance on strategic planning, policy and program development, and evaluation of MCH program activities that focus on poor health outcomes.

• Provide a synthesis of known best practices and interventions regarding promotion of reproductive and infant health and development of MCH epidemiology and surveillance capacity.

• Participate in defining the scope of reproductive and infant health needs relevant to MCH populations and to provide information and technical assistance in meeting those needs.

• Provide technical assistance to State MCH programs that develop or implement partnerships with other key State and national partners related to reproductive and infant health.

• Assist with efforts to identify, prevent, and address birth defects and disabilities in State and local health departments by providing technical assistance and guidance on strategic planning, policy and program development, and evaluation of MCH and CSHCN program activities that focus on these poor health outcomes.

• Coordinate with national, State, and local education, health and social service agencies, as well as other relevant organizations, in planning and conducting national strategies designed to strengthen programs for preventing HIV infection, STDs, unintended pregnancy, and other important health risks and health problems among young people.

• Coordinate communication with other CDC programs, mainly the Divisions of Reproductive Health, Nutrition and Physical Activity, and the National Center on Birth Defects and Developmental Disabilities.

CDC Activities for Part C

• Assist with efforts to identify, prevent, and address reproductive health issues in minority women by providing technical assistance and guidance on strategic planning, policy and program development, and evaluation of MCH program activities that focus on poor health outcomes.

• Provide a synthesis of available data and interventions regarding promotion of reproductive health.

• Participate in defining the scope of reproductive health needs relevant to minority women and to provide information and technical assistance in meeting those needs.

• Provide technical assistance to national minority organizations that develop or implement partnerships with other key State and national partners related to reproductive and infant health.

• Provide scientific and programmatic consultation for development and delivery of training, technical assistance, and evaluation activities.

• Work with grantees to develop evaluation strategies.

• Coordinate communication with other CDC programs.

CDC activities for Part D National Organizations and Part E State Coalitions are as follows:

• Provide scientific and programmatic consultation for development and delivery of training, technical assistance, and evaluation activities.

• Work with recipients to develop evaluation strategies.

• Coordinate communication with other CDC programs, mainly the Divisions of Reproductive Health and Adolescent and School Health.

• Facilitate coordination of activities and communication between recipients and the regional training centers funded through the existing “Integrating HIV and Other Prevention Services into Reproductive Health and Community Settings” cooperative agreement (see Appendix C found on the CDC Web site, Internet address: http://www.cdc.gov. Click on “Funding” then “Grants and Cooperative Agreements.”)

• Translate and disseminate lessons learned through publications, meetings, and other means on best practices to prevent teen pregnancy, HIV and STDs.

II. Award Information

Type of Award: Cooperative Agreement. CDC involvement in this program is listed in the Activities Section above.

Fiscal Year Funds: FY 2005.

Approximate Total Funding: $3,000,000; $600,000 in Part A; $450,000 in Part B; $200,000 in Part C; $600,000 in Part D; and $1,250,000 in Part E. (These amounts are an estimate, and are subject to availability of funds.)

Approximate Number of Awards: 12; 1 in Part A; 1 in Part B; 1-3 in Part C; 1-3 in Part D; and 5-8 in Part E.

Approximate Average Award: $600,000 in Part A; $450,000 in Part B; $100,000 in Part C; $300,000 in Part D; and $150,000 in Part E. (These amounts are for the first 12-month budget period, and include both direct and indirect costs)

Floor of Award Range: None.

Ceiling of Award Range: None.

Anticipated Award Date: August 1, 2005.

Budget Period Length: 12 months.

Project Period Length: five years.

Throughout the project period, CDC's commitment to continuation of awards will be conditioned on the availability of funds, evidence of satisfactory progress by the recipient (as documented in required reports), and the determination that continued funding is in the best interest of the Federal Government.

III. Eligibility Information

III.1. Eligible Applicants

Applications may be submitted by public and private nonprofit organizations and by governments and their agencies, such as:

• Public nonprofit organizations

• Private nonprofit organizations

• National Minority Organizations

• Small, minority, women-owned businesses

• Universities

• Colleges

• Research institutions

• Hospitals

• Community-based organizations

• Faith-based organizations

• Federally recognized Indian tribal governments

• Indian tribes

• Indian tribal organizations

• State and local governments or their Bona Fide Agents (this includes the District of Columbia, the Commonwealth of Puerto Rico, the Virgin Islands, the Commonwealth of the Northern Marianna Islands, American Samoa, Guam, the Federated States of Micronesia, the Republic of the Marshall Islands, and the Republic of Palau)

• Political subdivisions of States (in consultation with States)

A Bona Fide Agent is an agency/organization identified by the State as eligible to submit an application under the State eligibility in lieu of a State application. If you are applying as a bona fide agent of a State or local government, you must provide a letter from the State or local government as documentation of your status. Place this documentation behind the first page of your application form.

III.2. Cost Sharing or Matching

Matching funds are not required for this program.

III.3. Other

For Parts A, B, C, D and E applicants must meet the following criteria to be eligible:

• Have a documented five-year record of providing capacity-building assistance in the areas identified in the parts for which applicant is applying, including curriculum and material development, training, and technical assistance on national level in multiple States or on a State level with local organizations. Include documentation in the appendix of application.

Documentation may include educational materials, curricula, and evaluation results of trainings.

For Part A and B National Organization applicants must also meet the following criteria:

• Select whether the national organization is competing under Part A to target State public health agencies, Part B to target public health agencies in major urban areas or both. If both, you must submit a separate application for each Part.

• Have the specific charge from its Articles of Incorporation, Bylaws, or a resolution from its executive board or governing body to operate nationally, in all 50 States, within the United States or its territories. Include documentation in the appendix of application.

For Part C applicants must meet the following criteria:

• Have a currently valid Internal Revenue Service (IRS) 501(c)(3) tax-exempt status. Include documentation in the appendix of application. Any of the following also constitutes acceptable proof of such status:

—A reference to the applicant organization's listing in the Internal Revenue Service's (IRS) most recent list of tax-exempt organizations described in the IRS Code.

—A copy of a currently valid IRS tax exemption certificate.

—A statement from a State taxing body, State attorney general, or other appropriate State official certifying that the applicant organization has a non-profit status and that none of the net earnings accrue to any private shareholders or individuals.

—A certified copy of the organization's certificate of incorporation or similar document that clearly establishes non-profit status.

—Any of the items in the subparagraphs immediately above for a State or national parent organization and a statement signed by the parent organization that the applicant organization is a local non-profit affiliate.”

• Have a documented three-year record of providing health services to racial and ethnic/minority populations, including capacity-building assistance, curriculum and material development, training, education, coalition building, strategy development, and technical assistance to local affiliates in multiple States. Include documentation in the appendix of application.

• Have the specific charge from its Articles of Incorporation, Bylaws, or a resolution (or other written documentation) from its executive board or governing body to operate regionally, 10 more States, or nationally within the United States or its territories. Include documentation in the appendix of application.

• National organizations must be working with ethnic or minority populations or tribal entities. Include documentation of target population.

For Part D National Organizations applicants must meet the following criteria:

• Have a currently valid Internal Revenue Service (IRS) 501(c)(3) tax-exempt status. Include documentation in the appendix of application.

• Have the specific charge from its Articles of Incorporation, Bylaws, or a resolution from its executive board or governing body to operate regionally or nationally within the United States or its territories. Include documentation in the appendix of application.

For Part E State Coalitions applicants must meet the following criteria:

• Have a currently valid Internal Revenue Service (IRS) 501(c)(3) tax-exempt status. Include documentation in the appendix of application. (See list of alternative documentation on page 20).

• State or city coalitions must be working with populations of 500,000 or more based on 2000 census figures. Include documentation census figures in the appendix of application.

Special Requirements: If your application is incomplete or non-responsive to the special requirements listed in this section, it will not be entered into the review process. You will be notified that your application did not meet submission requirements.

• Late applications will be considered non-responsive. See section “IV.3. Submission Dates and Times” for more information on deadlines.

• Note: Title 2 of the United States Code Section 1611 States that an organization described in Section 501(c)(4) of the Internal Revenue Code that engages in lobbying activities is not eligible to receive Federal funds constituting an award, grant, or loan.

IV. Application and Submission Information

IV.1. Address To Request Application Package

To apply for this funding opportunity use application form PHS 5161-1. Application forms and instructions are available on the CDC Web site, at the following Internet address: http://www.cdc.gov/od/pgo/forminfo.htm.

Electronic Submission: CDC strongly encourages you to submit your application electronically by utilizing the forms and instructions posted for this announcement at http://www.grants.gov, the official Federal agency wide E-grant Web site. Only applicants who apply online are permitted to forego paper copy submission of all application forms.

Paper Submission: Application forms and instructions are available on the CDC Web site, at the following Internet address: http://www.cdc.gov/od/pgo/forminfo.htm.

If you do not have access to the Internet, or if you have difficulty accessing the forms on-line, you may contact the CDC Procurement and Grants Office Technical Information Management Section (PGO-TIM) staff at: 770-488-2700. Application forms can be mailed to you.

IV.2. Content and Form of Submission

Electronic Submission: You may submit your LOI electronically at http://www.grants.gov by filling out the required Grants.gov information and attach a word document.

Paper Submission: If submitting by paper copy, send the original and two hard copies of your LOI by mail or express delivery service. Your LOI must be written in the following format:

• Maximum number of pages: three

• Font size: 12-point unreduced

• Double spaced

• Paper size: 8.5 by 11 inches, unbound

• Page margin size: One inch

• Printed only on one side of page

• Written in plain language, avoid jargon

Your LOI must contain the following information:

• Descriptive title of the proposed research

• Name, address, E-mail address, and telephone number of the Principal Investigator

• Names of other key personnel

• Participating institutions

• Number and title of this Request for Applications

Application: Electronic Submission: You may submit your application electronically at http://www.grants.gov. Applications completed online through Grants.gov are considered formally submitted when the applicant organization's Authorizing Official electronically submits the application to http://www.grants.gov. Electronic applications will be considered as having met the deadline if the application has been submitted electronically by the applicant organization's Authorizing Official to Grants.gov on or before the deadline date and time.

It is strongly recommended that you submit your grant application using Microsoft Office products (e.g., Microsoft Word, Microsoft Excel, etc.). If you do not have access to Microsoft Office products, you may submit a PDF file. Directions for creating PDF files can be found on the Grants.gov Web site. Use of file formats other than Microsoft Office or PDF may result in your file being unreadable by our staff.

CDC recommends that you submit your application to Grants.gov early enough to resolve any unanticipated difficulties prior to the deadline. You may also submit a back-up paper submission of your application. Any such paper submission must be received in accordance with the requirements for timely submission detailed in Section IV.3. of the grant announcement. The paper submission must be clearly marked: “BACK-UP FOR ELECTRONIC SUBMISSION.” The paper submission must conform with all requirements for non-electronic submissions. If both electronic and back-up paper submissions are received by the deadline, the electronic version will be considered the official submission.

Paper Submission: If you plan to submit your application by hard copy, submit the original and two hard copies of your application by mail or express delivery service. Refer to section IV.6. Other Submission Requirements for submission address.

You must submit a project narrative with your application forms. The narrative must be submitted in the following format:

• Maximum number of pages: 20—If your narrative exceeds the page limit, only the first pages which are within the page limit will be reviewed.

• Font size: 12 point unreduced

• Double spaced

• Paper size: 8.5 by 11 inches

• Page margin size: One inch

• Printed only on one side of page

• Held together only by rubber bands or metal clips; not bound in any other way.

Your narrative should address activities to be conducted over the entire project period, and must include the following items in the order listed:

Narrative for Parts A and B

1. Plan and Objectives

• Define specific, measurable, achievable, and time-phased objectives to support the program goal.

• Identify and describe the activities to support the objectives.

• Explain how you will measure achievement of the objectives.

• Provide a logic model for the proposed plan. Include activities, short-term, intermediate and long-term and impact outcomes. Show how the proposed activities will aid in reaching the organization's overall project goal.

• Provide a realistic timeline for activities.

• Describe how the project will be implemented.

• Describe how the project will achieve the objectives of the overall program.

• Describe the training and technical assistance strategy including the method of delivery, potential trainers, training objectives, length of training, curriculum and materials, and evaluation plan.

• Describe any anticipated obstacles to accomplishing the proposed activities.

• Include letters of support and intention to collaborate from the directors of at least five health departments. The letters must clearly State their support and commitment to the proposed activities and the specific collaboration they agree to bring during the life of the cooperative agreement.

• Describe the translation and dissemination plan for materials, curricula, lessons learned and other information.

2. Experience

• Describe your organization's experience in providing training and technical assistance to public health agencies and their partner organizations.

• Describe any experience developing and using logic models and training others to use logic models (See Appendix B found on the CDC Web site, Internet address: http://www.cdc.gov. Click on “Funding” then “Grants and Cooperative Agreements.”)

• Describe any experience providing technical assistance to health departments to identify, select, implement, and evaluate science-based programs related to reproductive health, infant health, or other maternal and child health issue.

• Describe the results of similar efforts that used skills to provide training and technical assistance to health departments and their partner organizations.

• Describe the training and technical assistance experience of staff in science-based practices as it relates to the identified needs and proposed plan.

• Describe the experience of the staff working with the proposed target organizations.

• Provide résumés and job descriptions of key existing and new staff.

• Provide an organizational chart as an appendix that identifies lines of authority, including who will have management authority over the project.

3. Collaboration

• Describe your organization's existing networks and mechanisms to reach targeted public health agencies.

• Describe the percentage of target health departments participating in the networks and mechanisms, and the level of participation.

• Describe your organization's ability to recruit, utilize, and collaborate with essential agencies, organizations and national experts necessary to be successful in carrying out the proposal's objectives.

• Include letters of support and intent to collaborate from the directors of target public health agencies, their membership organizations, other national organizations. The letters must clearly state their support and commitment to the proposed activities, and where appropriate, the specific collaboration they agree to bring to the four-year process. Include memoranda of agreement.

4. Statement of Need

• Describe the specific public health needs to be targeted by your proposal, especially as it relates to health departments. Describe also the methodology for identifying the needs of targeted public health agencies including surveys, focus groups, leadership discussion, etc.

• Describe activities that your organization currently provides related to those identified needs and how your proposed activities will relate to or complement these activities.

5. Evaluation Plan

• Develop an evaluation plan that is consistent with CDC's Evaluation Framework for Evaluating Public Health Programs. See http://www.cdc.gov/eval/framework.htm.

• For each measurable objective, identify process and outcome indicators.

• Describe how the data findings and evaluation results will be shared with stakeholders and how results will be used.

• Identify the staff person who will take the lead on the project's evaluation.

6. Budget and Justification (Does Not Count Against Narrative Page Limit)

• Provide a detailed budget and line item justification for all operating expenses that are consistent with the proposed program objectives and activities for each activity.

Narrative for Part C

1. Operational Plan

• Provide a proposed plan. Include activities and plans for collaboration. Show how the proposed activities will aid in reaching the overall goal.

• Provide a realistic timeline for activities.

• Describe how the project will be implemented.

• Describe how the project will achieve the goal of the overall program.

• Describe specific activities to engage State health departments or State coalitions, and local affiliates in this project.

• Describe any anticipated obstacles to accomplishing the proposed activities.

• Include letters of support and intention to collaborate from the directors of State health departments or State coalitions. The letters must clearly state their support and commitment to the proposed activities and the specific collaboration they agree to bring to the project. Inclusion of memoranda of agreement is encouraged.

• Include letters of support from local affiliates and other stakeholders.

• Describe the translation and dissemination plan for materials, curricula, lessons learned and other information.

2. Experience

• Describe your organization's experience in working on health related issues that address minority women.

• Describe any experience providing technical assistance to other organizations to identify, select, implement, and evaluate science-based programs that promote safe motherhood activities.

• Describe the results of similar efforts that used skills to provide training and technical assistance to other organizations such as State and local coalitions, State health departments, schools, health clinics, and faith-based organizations, and to disseminate findings to a broader audience.

3. Collaboration

• Describe prior and current collaborations with State health departments or State coalitions, and local affiliates. Include information on the purpose of the collaboration, activities conducted, outcomes, and opportunities for future initiatives.

4. Objectives

• Define specific, measurable, achievable, realistic, and time-phased objectives to support the program goal.

• Identify and describe the activities to support the objectives.

• Explain how you will measure achievement of the objectives.

5. Statement of Need

• Describe the extent to which the applicant identifies specific needs of minority women related to the purposes of the program.

6. Evaluation Plan

• Develop an evaluation plan that is consistent with CDC's Evaluation Framework for Evaluating Public Health Programs. See http://www.cdc.gov/eval/frameword.htm.

• For each measurable objective, identify process and outcome indicators.

• Describe how the data findings and evaluation results will be shared with stakeholders and how results will be used.

7. Budget and Justification (Does Not Count Against Narrative Page Limit)

• Provide a detailed budget and line item justification for all operating expenses that are consistent with the proposed program objectives and activities for each activity.

Narrative for Part D National Organization and Part E State Coalitions

1. Plan

• Provide a logic model for the proposed plan. Include activities, short-term, intermediate and long-term and impact outcomes. Show how the proposed activities will aid in reaching the organization's overall project goal. (See Appendix B)

• Provide a realistic timeline for activities.

• Describe how the project will be implemented.

• Describe how the project will achieve the goal of the overall program.

• Describe the training and technical assistance strategy including the method of delivery, potential trainers, training objectives, length of training, curriculum and materials, and evaluation plan.

• Describe any anticipated obstacles to accomplishing the proposed activities.

• Include letters of support and intention to collaborate from the directors of at least five coalitions or organizations. The letters must clearly state their support and commitment to the proposed activities and the specific collaboration they agree to bring to the project. Include memoranda of agreement.

• Describe the translation and dissemination plan for materials, curricula, lessons learned and other information.

2. Experience

• Describe your organization's experience in providing training and technical assistance to State and local coalitions, State health departments, schools, health clinics, youth serving community and faith-based organizations, or other organizations in teen pregnancy, STD, and HIV prevention.

• Describe any experience developing logic models and training others to use logic models.

• Describe any experience providing technical assistance to other organizations to identify, select, implement, and evaluate science-based programs that prevent teen pregnancy, HIV and STDs, and promote adolescent reproductive health.

• Describe the results of similar efforts that used skills to provide training and technical assistance to other organizations such as State and local coalitions, State health departments, schools, health clinics, youth serving community and faith-based organizations and to disseminate findings to a broader audience.

3. Objectives

• Define specific, measurable, achievable, and time-phased objectives to support the program goal.

• Identify and describe the activities to support the objectives.

• Explain how achievement of the objectives will be measured.

4. Evaluation Plan

• Develop an evaluation plan that is consistent with CDC's Evaluation Framework for Evaluating Public Health Programs. See http://www.cdc.gov/eval/framework.htm

• For each measurable objective, identify process and outcome indicators.

• Describe how the data findings and evaluation results will be shared with stakeholders and how results will be used.

5. Program Staff

• Describe the training and technical assistance experience of staff in science-based practices in teen pregnancy, STD, and HIV prevention.

• Describe the experience of the staff working with the proposed target organizations.

• Provide résumés and job descriptions of existing and newly proposed staff, with prior experience in teen pregnancy, STD, and HIV prevention, identifying their role and responsibilities.

• Provide an organizational chart as an appendix that identifies lines of authority, including who will have management authority over the project.

• Identify the staff person who will take the lead on the project's evaluation.

6. Budget and Justification (Does Not Count Against Narrative Page Limit)

• Provide a detailed budget and line item justification for all operating expenses that are consistent with proposed program objectives and activities for each activity.

Additional information may be included in the application appendices. The appendices will not be counted toward the narrative page limit. This additional information may include:

• 501(3)(c)status application or any of the following constitutes acceptable proof of such status:

—A reference to the applicant organization's listing in the Internal Revenue Service's (IRS) most recent list of tax-exempt organizations described in the IRS Code.

—A copy of a currently valid IRS tax exemption certificate.

—A statement from a State taxing body, State attorney general, or other appropriate State official certifying that the applicant organization has a non-profit status and that none of the net earnings accrue to any private shareholders or individuals.

—A certified copy of the organization's certificate of incorporation or similar document that clearly establishes non-profit status.

—Any of the items in the subparagraphs immediately above for a State or national parent organization and a statement signed by the parent organization that the applicant organization is a local non-profit affiliate.

• Training needs assessments

• Surveys and survey findings

• Epidemiological data

• Training curricula or materials

• Publications or products from similar experience

• Logic models

• Evaluation results from similar experience

• Curriculum vitae/resumes

• Organizational charts

• Contact list of organizational network participants

• Letters of support

• Memoranda of agreement

• Other pertinent information requested in the narrative section of the program announcement or other relevant material and documents you want to include.

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/funding/pubcommt.htm. If your application form does not have a DUNS number field, please write your DUNS number at the top of the first page of your application, or include your DUNS number in your application cover letter.

Additional requirements that may require you to submit additional documentation with your application are listed in section “VI.2. Administrative and National Policy Requirements.”

IV.3. Submission Dates and Times

LOI Deadline Date: April 22, 2005.

CDC requests that you send a LOI if you intend to apply for this program. Although the LOI is not required, not binding, and does not enter into the review of your subsequent application, the LOI will be used to gauge the level of interest in this program, and to allow CDC to plan the application review.

Application Deadline Date: May 23, 2005.

Explanation of Deadlines: Applications must be received in the CDC Procurement and Grants Office by 4 p.m. Eastern Time on the deadline date. If you submit your application by the United States Postal Service or commercial delivery service, you must ensure that the carrier will be able to guarantee delivery by the closing date and time. If CDC receives your submission after closing due to: (1) Carrier error, when the carrier accepted the package with a guarantee for delivery by the closing date and time, or (2) significant weather delays or natural disasters, you will be given the opportunity to submit documentation of the carriers guarantee. If the documentation verifies a carrier problem, CDC will consider the submission as having been received by the deadline.

This announcement is the definitive guide on LOI and application content, submission address, and deadline. It supersedes information provided in the application instructions. If your submission does not meet the deadline above, it will not be eligible for review, and will be discarded. You will be notified that you did not meet the submission requirements.

Electronic Submission: If you submit your application electronically with Grants.gov, your application will be electronically time/date stamped which will serve as receipt of submission. In turn, you will receive an e-mail notice of receipt when CDC receives the application. All electronic applications must be submitted by 4 p.m. Eastern Time on the application due date.

Paper Submission: CDC will not notify you upon receipt of your paper submission. If you have a question about the receipt of your LOI or application, first contact your courier. If you still have a question, contact the PGO-TIM staff at: 770-488-2700. Before calling, please wait two to three days after the submission deadline. This will allow time for submissions to be processed and logged.

IV.4. Intergovernmental Review of Applications

Executive Order 12372 does not apply to this program.

IV.5. Funding Restrictions

Restrictions, which must be taken into account while writing your budget, are as follows:

• Funds may not be used for research.

• Funds may not be used for clinical or direct services.

• Funds may not be used to purchase food.

• Funds may not be used for construction.

• Reimbursement of pre-award costs is not allowed.

If you are requesting indirect costs in your budget, you must include a copy of your indirect cost rate agreement.

If your indirect cost rate is a provisional rate, the agreement should be less than 12 months of age.

Guidance for completing your budget can be found on the CDC Web site, at the following Internet address: http://www.cdc.gov/od/pgo/funding/budgetguide.htm.

IV.6. Other Submission Requirements

Paper Submission: LOI Submission Address: Submit your LOI by express mail, delivery service, fax, or E-mail to: Seema Gupta, CDC, NCCDPHP, 4770 Buford Highway, NE, Mail Stop K-20, Atlanta, GA 30341-3717, Telephone: 770 488-5200, Fax: 770 488 6450, E-mail address: SGupta@CDC.GOV.

Electronic Submission: LOIs may be submitted electronically at this time to http://www.Grants.gov. Fill out the required Grants.gov information and attach a word document with the necessary information from IV.2. Content and Form of Submission.

Application Submission Address: Electronic Submission: CDC strongly encourages applicants to submit electronically at: http://www.Grants.gov. You will be able to download a copy of the application package from http://www.Grants.gov, complete it offline, and then upload and submit the application via the Grants.gov site. E-mail submissions will not be accepted. If you are having technical difficulties in Grants.gov they can be reached by E-mail at http://www.support@grants.gov or by phone at 1-800-518-4726 (1-800-518-GRANTS). The Customer Support Center is open from 7 a.m. to 9 p.m. Eastern Time, Monday through Friday.

Paper Submission: If you chose to submit a paper application, submit the original and two hard copies of your application by mail or express delivery service to: Technical Information Management-AA004, CDC Procurement and Grants Office, 2920 Brandywine Road, Atlanta, GA 30341.

V. Application Review Information

V.1. Criteria

Applicants are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation. Your application will be evaluated against the following criteria:

Parts A and B

1. Plan and Objectives (25 Points)

• Does the applicant include logic models that show how the activities will lead to reaching the overall goals?

• Are the objectives specific, time-phased, measurable, realistic, and related to the purposes of the program?

• Does the plan describe how it will achieve the overall program goals?

• Is the proposed plan feasible and consistent with the stated objectives in this proposal?

• Does the timeline incorporate major activities and milestones?

• Does the applicant include dates, tasks, and persons responsible for accomplishing tasks?

2. Experience (25 Points)

• Does the applicant provide documentation of more than five years of experience providing technical assistance for MCH programs in public health agencies serving States or major cities?

• Does the applicant provide information that specifically addresses their experience providing technical assistance and training in reproductive and infant health?

• Does the applicant describe their experience in providing training and technical assistance in science-based practices?

• Does the applicant describe the results of similar efforts using skills to provide training and technical assistance to organizations and disseminate information to a broader audience?

• Does the proposed staff have adequate training and technical assistance experience in science-based practices to successfully implement the project?

• Does the applicant provide the organizational chart, resumes and job descriptions of existing and newly proposed staff with prior training and technical assistance experience as it relates to the identified needs, proposed plan and lines of authority?

3. Collaboration (20 Points)

• Does the applicant demonstrate existing relationships with or membership that includes senior MCH public health staff from most public health agencies serving States or major cities? Does this relationship reach most public health agencies nationwide and is the level of participation sufficient to accomplish program goals?

• Does the applicant demonstrate the ability to collaborate with the organizations and experts necessary to accomplish the process and outcome objectives?

• Does the applicant include sufficient letters of support to demonstrate their ability to reach targeted health departments nationwide and to collaborate as needed to accomplish stated objectives and activities?

4. Statement of Need (20 Points)

• Does the applicant credibly identify specific reproductive and infant health needs of targeted public health agencies serving States or major urban areas?

• Do the activities that the organization currently provides relate to identified needs and will the newly proposed activities be complementary?

5. Evaluation Plan (10 Points)

• Does the applicant provide an evaluation plan that identifies measurable objectives, including process and outcome objectives and timeframes?

• Does the applicant clearly describe how the grantee will use Performance Measures to track internal processes?

6. Budget (Not Scored)

• Does the applicant provide a budget that is detailed, itemized, reasonable, clearly justified, and consistent with the intended use of funds?

Part C: National Organizations

1. Operational Plan and Timetable (25 Points)

The extent to which the applicant's plan to carry out the activities proposed is feasible and consistent with the stated objectives in this proposal. The extent to which the timetable incorporates major activities and milestones, and is specific, measurable and realistic. Dates, tasks, and persons responsible for accomplishing tasks should be included.

2. Experience (20 Points)

The extent to which the applicant documents experience in working on health related issues that target minority women and providing technical assistance to other organizations that promote safe motherhood.

3. Collaboration (20 Points)

The extent to which the organization has existing relationships with local affiliates, and State health departments and coalitions.

4. Objectives (15 Points)

The extent to which objectives are specific, time phased, measurable, realistic, and related to the purposes of the program.

5. Statement of Need (10 Points)

The extent to which the applicant identifies specific needs of minority women related to the purposes of the program.

6. Evaluation Plan (10 Points)

The extent to which the evaluation plan appears feasible for monitoring progress toward meeting project objectives. In addition to evaluating outcome-related project objectives, the plan should clearly describe how the grantee will use Performance Measures to track internal processes.

7. Budget (Not Scored)

The extent to which the budget is detailed, clear, justified, provides in-kind or direct project support, and is consistent with the proposed program activities.

Part D National Organizations and Part E State Coalitions

1. Plan (30 Points)

• Does the applicant include a logic model that shows how the activities will lead to reaching the overall goals?

• Is the timeline for the proposed activities realistic?

• Does the plan describe the training and technical assistance strategy to be used, including the method of delivery, potential trainers, training objectives, length of training, curriculum and materials, and evaluation plan?

• Does the plan describe how it will achieve the overall program goal?

• Does the plan describe any anticipated obstacles to providing training to the proposed organizations and personnel?

• Does the applicant include five letters of support that describe the intent to collaborate with the applicant?

• Does the applicant describe a plan to translate and disseminate materials, curricula, lessons learned and other information?

2. Experience (20 Points)

• Does the applicant provide information that specifically addresses:

—Their experience providing technical assistance in the areas of teen pregnancy, STD, and HIV prevention.

—Their experience providing technical assistance and training to State and local coalitions, State health departments, schools, health clinics, youth serving community and faith-based organizations, or other organizations.

• Does the applicant describe their experience in providing training and technical assistance in science-based practices in teen pregnancy, STD and HIV prevention?

• Does the applicant describe the results of similar efforts using skills to provide training and technical assistance to other organizations and disseminate information to a broader audience?

3. Objectives (20 Points)

• Does the applicant provide objectives that are specific, measurable, achievable, and time-phased?

• Does the applicant explain how objectives will be measured?

• Do the applicant's objectives and activities use the organization's strengths to meet the program goal of building capacity within communities to prevent teen pregnancy and promote adolescent reproductive health?

4. Evaluation (20 Points)

• Does the applicant provide an evaluation plan that identifies measurable objectives, including process and outcome objectives and timeframes?

• Does the applicant clearly describe how the grantee will use Performance Measures to track internal processes?

5. Program Staff (10 Points)

• Does the proposed staff have adequate training and technical assistance experience in science-based practices to successfully implement the project?

• Does the applicant provide resumes and job descriptions of existing and newly proposed staff with prior training and technical assistance experience in teen pregnancy, STD, and HIV prevention, identifying their role and responsibilities?

• Does the applicant provide an organizational chart that identifies lines of authority including who will have management authority over the project?

6. Budget and Justification (Not Scored)

• Does the applicant provide a budget that is detailed, itemized, reasonable, clearly justified, and consistent with the intended use of funds?

V.2. Review and Selection Process

Applications will be reviewed for completeness by the Procurement and Grants Office (PGO) staff and for responsiveness by the NCCDPHP. Incomplete applications and applications that are non-responsive to the eligibility criteria will not advance through the review process. Applicants will be notified that their application did not meet submission requirements.

An objective review panel will evaluate complete and responsive applications according to the criteria listed in the “V.1. Criteria” section, above. Applications will be funded in order by score and rank determined by the review panel.

V.3. Anticipated Announcement and Award Dates

August 1, 2005.

VI. Award Administration Information

VI.1. Award Notices

Successful applicants will receive a Notice of Award (NoA) from the CDC Procurement and Grants Office. The NoA shall be the only binding, authorizing document between the recipient and CDC. The NoA will be signed by an authorized Grants Management Officer, and mailed to the recipient fiscal officer identified in the application.

Unsuccessful applicants will receive notification of the results of the application review by mail.

VI.2. Administrative and National Policy Requirements

Successful applicants must comply with the administrative requirements outlined in 45 CFR Part 74 and Part 92 as appropriate. For more information on the Code of Federal Regulations, see the National Archives and Records Administration at the following Internet address: http://www.access.gpo.gov/nara/cfr/cfr-table-search.html.

An additional Certifications form from the PHS 5161-1 application needs to be included in your Grants.gov electronic submission only. Refer to http://www.cdc.gov/od/pgo/funding/PHS5161-1Certificates.pdf. Once the form is filled out attach it to your Grants.gov submission as Other Attachments Form.

The following additional requirements apply to this project:

• AR-4 HIV/AIDS Confidentiality Provisions

• AR-5 HIV Program Review Panel Requirements

• AR-6 Patient Care

• AR-8 Public Health System Reporting Requirements

• AR-9 Paperwork Reduction Act Requirements

• AR-10 Smoke-Free Workplace Requirements

• AR-11 Healthy People 2010

• AR-12 Lobbying Restrictions

• AR-14 Accounting System Requirements

• AR-15 Proof of Non-Profit Status

• AR-21 Small, Minority, and Women-Owned Business

• AR-23 States and Faith-Based Organizations

• AR-24 Health Insurance Portability and Accountability Act Requirements

• AR-25 Release and Sharing of Data

Additional information on these requirements can be found on the CDC Web site at the following Internet address: http://www.cdc.gov/od/pgo/funding/ARs.htm.

VI.3. Reporting Requirements

You must provide CDC with an original, plus two hard copies of the following reports:

1. Interim progress report, due no less than 90 days before the end of the budget period. The progress report will serve as your non-competing continuation application, and must contain the following elements:

a. Current Budget Period Activities Objectives.

b. Current Budget Period Financial Progress.

c. New Budget Period Program Proposed Activity Objectives.

d. Budget.

e. Measures of Effectiveness.

f. Additional Requested Information.

2. Financial status report and annual progress report, no more than 90 days after the end of the budget period.

3. Final financial and performance reports, no more than 90 days after the end of the project period.

These reports must be mailed to the Grants Management or Contract Specialist listed in the “Agency Contacts” section of this announcement.

VII. Agency Contacts

We encourage inquiries concerning this announcement.

For general questions, contact: Technical Information Management Section, CDC Procurement and Grants Office, 2920 Brandywine Road, Atlanta, GA 30341, Telephone: 770-488-2700.

For program technical assistance, contact: Bill Sappenfield, Project Officer (Parts A & B), Seema Gupta, Project Officer (Part C), Kim Nolte, Project Officer (Parts D & E), National Center for Chronic Disease Prevention and Health Promotion, 4770 Buford Highway, NE Mail Stop K-20, Atlanta, GA 30341-3717;

Telephone: Sappenfield (770) 488-5133, Gupta (770) 488-6527, Nolte (770) 488-6318.

E-mail: Sappenfield BSappenfield@CDC.GOV, Gupta SGupta@CDC.GOV, Nolte KNolte@CDC.GOV.

For financial, grants management, or budget assistance, contact: Nealean Austin, Grants Management Specialist, CDC Procurement and Grants Office, 2920 Brandywine Road, Atlanta, GA 30341-3717, Telephone: (770) 488-2722, E-mail: NAustin@CDC.GOV.

VIII. Other Information

This and other CDC funding opportunity announcements can be found on the CDC Web site, Internet address: http://www.cdc.gov. Click on “Funding” then “Grants and Cooperative Agreements.”

Dated: March 17, 2005.
William P. Nichols,
Director, Procurement and Grants Office, Centers for Disease Control and Prevention.

[FR Doc. 05-5685 Filed 3-22-05; 8:45 am]

BILLING CODE 4163-18-P